DEPARTMENT OF ENERGY

Federal Energy Regulatory Commission

[Project No. 1256-031]

Loup River Public Power District; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 1256-031.

c. Date filed: April 16, 2012.

d. Applicant: Loup River Public Power District (Loup Power District).

e. Name of Project: Loup River Hydroelectric Project.

f. Location: The existing project is located on the Loup River, Loup Canal (a diversion canal off the Loup River), and Platte River in Nance and Platte counties, Nebraska. The project does not occupy federal lands.

g. Filed Pursuant to: Federal Power Act 16 U.S.C. 791 (a)-825(r).

h. Applicant Contact: Neal Suess, President/CEO, Loup Power District, P.O. Box 988, 2404 15th Street, Columbus, Nebraska 68602, Telephone (866) 869-2087.

i. FERC Contact: Lee Emery, Telephone (202) 502-8379 or email lee.emery@ferc.gov.

j. Deadline for filing motions to intervene and protests, comments, recommendations, preliminary terms and conditions, and preliminary prescriptions: 60 days from the issuance date of this notice; reply comments are due 105 days from the issuance date of this notice.

Motions to intervene, protests, comments, recommendations, preliminary terms and conditions, and preliminary fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now is ready for environmental analysis.

l. The project consists of (upstream to downstream): (1) A 1,320-foot-long, 6-foot-high diversion dam on the Loup River; (2) an intake structure composed of eleven 24-foot-long by 5-foot-high steel intake gates located on the north bank of the Loup River immediately upstream of the diversion dam; (3) three 20-foot-long by 6-foot-high steel sluice gates located between the diversion dam and the intake structure; (4) the 35-mile-long Loup Canal; (5) a 2-mile-long settling basin located in the upper portion of the Loup Canal and containing a floating hydraulic dredge and skimming weir; (6) the Monroe Powerhouse containing three Francis-type, turbine-generating units each with a rated capacity of 2.612 megawatts (MW); (7) a 760-acre regulating reservoir, Lake Babcock, with a storage capacity of 2,270 acre-feet at its full pool elevation of 1,531 feet mean sea level (msl); (8) a 200-acre regulating reservoir, Lake North, with a storage capacity of 2,080 acre-feet at an elevation of 1,531 feet msl; (9) a concrete control structure in the south dike linking the two reservoirs; (10) a 60-foot-long by 104-foot-wide by 40-foot-high inlet structure with trashracks; (11) three 20-foot-diameter by 385-foot-long steel penstocks connecting the inlet structure with a powerhouse (Columbus Powerhouse); (12) the Columbus Powerhouse containing three Francis-type, turbine-generating units each with a rated capacity of 15.2 MW; and (13) appurtenant facilities. The project has a combined installed capacity of 53.4 MW.

The Monroe Powerhouse operates in a run-of-river mode (i.e., outflow from the powerhouse equals inflow from the Loup Canal). The maximum hydraulic capacity of the canal at the Monroe Powerhouse is 3,500 cubic feet per second (cfs). The Monroe Powerhouse spans the canal and functions as an energy-producing canal drop structure.

The Columbus Powerhouse operates as a daily peaking facility. The water levels in Lake Babcock and Lake North are generally drawn down about 2 to 3 feet a day to produce power during times of peak electrical demand. In off-peak hours, when there is less demand for electricity, the turbines are turned down or shut off, which allows Lake Babcock and Lake North to refill. The hydraulic capacity of the canal at the Columbus Powerhouse is 4,800 cfs.

Loup Power District proposes to remove three parcels of land from the project boundary that it finds are not necessary for project operations or purposes. In addition, Loup Power District proposes to add three parcels of land to the project boundary that it finds are needed for project purposes.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

Milestone | Target Date
Filing of recommendations, preliminary terms and conditions, and preliminary fishway prescriptions | October 2012.
Commission issues Draft EA | April 2013.
Comments on Draft EA | May 2013.
Modified Terms and Conditions | July 2013.
Commission Issues Final EA | October 2013.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: August 23, 2012.
Kimberly D. Bose,
Secretary.

[FR Doc. 2012-21440 Filed 8-29-12; 8:45 am]

BILLING CODE 6717-01-P